DEPARTMENT OF THE INTERIOR

National Park Service

Notice of Inventory Completion: University of Massachusetts, Department of Anthropology, Amherst, MA

Agency: National Park Service, Interior.

Action: Notice.

Notice is here given in accordance with the Native American Graves Protection and Repatriation Act (NAGPRA), 25 U.S.C. 3003, of the completion of an inventory of human remains in the possession of the University of Massachusetts, Department of Anthropology, Amherst, MA. The human remains were removed from the Fort Neck Burying Ground in Charlestown, Washington County, RI.

This notice is published as part of the National Park Service's administrative responsibilities under NAGPRA, 25 U.S.C. 3003 (d)(3). The determinations within this notice are the sole responsibility of the museum, institution, or Federal agency that has control of the Native American human remains. The National Park Service is not responsible for the determinations within this notice.

A detailed assessment of the human remains was made by the University of Massachusetts, Department of Anthropology professional staff in consultation with representatives of the Narragansett Indian Tribe of Rhode Island.

In September of 1912, human remains representing a minimum of eight individuals were removed from the Fort Neck Burying Ground, on the grounds of the James S. Kenyon estate in Charlestown, RI, by Dr. Harris Hawthorne Wilder, his wife Dr. Inez Whipple Wilder, and two assistants. No known individuals were identified among the remains excavated. The Wilders' field notes indicate that there were wooden and metal coffin fragments, small cloth fragments, and shroud pins associated with some of the burials, but there is no indication that these items were collected with the burials. The University of Massachusetts is not in possession of either associated or unassociated funerary objects from these burials.

The human remains collected from the Fort Neck Burying Ground were originally exhibited in the “Smith Anthropological and Zoological Museum” at Burton Hall, Smith College, Northampton, MA. Each of the individual bones was marked in black Indian ink, with identification numbers, letters, and Roman numerals that matched up to the Wilders' site map, excavation schedule, and collections storage system; each set of human remains was originally numbered 1, 2, 5, 6, 7, 8, 9, and 10, based on their location in the row. In 1966, Smith College transferred, as an extended loan, the human remains from the Fort Neck Burying Ground, along with other Native American remains, to the Anthropology Department of the University of Massachusetts, Amherst, where they were accessioned as part of the “Wilder Collection,” and incorporated into the existing teaching and research collections. In 1987, the University of Massachusetts assigned new accession numbers to the individuals from the Fort Neck Burying Ground as follows: 1987-019 (Wilder #1), 1987-006 (Wilder #2), 1987-015 (Wilder #5), 1987-004 (Wilder #6), 1987-007 (Wilder #7), 1987-018 (Wilder #8), 1987-016 (Wilder #9), and 1987-014 (Wilder #10).

The location of the Fort Neck Burying Ground was described in a 1912 newspaper article: “The ancient burial place is beautifully located on Fort Neck, near Cross Mills in Charlestown, at the head of Powaget, or Charlestown pond. It lies near the old Indian trail, later known in Colonial days as the King's or Queen's highway, as chanced to be at the time the ruler of England. Later it was called the country road, and then again the Post road” (The Sun, Providence, RI, September 8, 1912). The Wilders got permission to excavate from the owners of the land, heirs of the late James S. Kenyon, and the town council of Charlestown. The Wilders' site map of “Fort Neck Burying Ground - Charlestown, R.I. Excavation of September 1912” plots the location of 10 burials in the one row targeted for study, and at least four additional rows. The site had been previously excavated on at least two occasions. In 1859, Charlestown citizens collected several skeletal elements and artifacts from this and other Narragansett burial sites that were apparently sent to Brown University. Dr. Usher Parsons of Providence later re-opened this graveyard and other sites to supply his own “repository of scientific curiosities” (Wilder Field Notebook #1, Charlestown, R.I., summer 1912, stored in Wilder Collection Series VI: Professional Activities, Box 29, Folder 6, Smith College Archives).

An entry in the Smith College Zoology Department Accession Book describes the remains as follows: “Collection of Skeletons from Charlestown, R.I. Fort Neck Burying ground. People from Narragansett Reservation, buried perhaps between 1750-1840. Ten bodies. Excavated 1912 by the Wilders. These not accessioned yet. (March 1919)” (Smith College Zoology Department Accession Book II, page 29, on file at University of Massachusetts, Amherst). The Wilders' field notes indicate that two out of the ten graves they selected for excavation showed signs of previous disturbance, and the bodies were already missing. One empty grave had a marked headstone: “Here lieth ye Body of George ye son of Charles Ninigret, King of ye Natives and his wife Hannah”; the footstone read: “Ninigret, George. 1731c - 22 Dec 1732.” The Ninigret family is identified as Niantic and Narragansett in Narragansett tribal genealogical records. No materials were removed from the two empty graves by the Wilders. The University of Massachusetts is now in possession of eight sets of human remains from the Fort Neck Burying Ground, none of which have been identified by name.

Based on Narragansett Indian tribal written and oral histories; colonial, local, and regional historic documentation; documents in the Wilder Collection at the University of Massachusetts and the Smith College Archives; Dr. Wilder's reconstruction of genealogical information for the Narragansett peoples based on ethnographic interviews at the time of excavation; Narragansett Indian tribal genealogical records; geography; and proximity of the cemetery to the Narragansett Indian Tribal Reservation, it has been determined that the human remains described in this notice are affiliated with the Narragansett Indian Tribe of Rhode Island.

Officials of the University of Massachusetts, Department of Anthropology have determined that, pursuant to 25 U.S.C. 3001 (9-10), the human remains described above represent the physical remains of eight individuals of Native American ancestry. Officials of the University of Massachusetts, Department of Anthropology also have determined that, pursuant to 25 U.S.C. 3001 (2), there is a relationship of shared group identity that can be reasonably traced between these Native American human remains and the Narragansett Indian Tribe of Rhode Island.

Representatives of any other Indian tribe that believes itself to be culturally affiliated with the human remains should contact Ralph Faulkingham, Chair, Department of Anthropology, University of Massachusetts, Room 215 Machmer Hall, Amherst, MA 01003, telephone (413) 545-0028, before December 23, 2004. Repatriation of the human remains to the Narragansett Indian Tribe of Rhode Island may proceed after that date if no additional claimants come forward.

The University of Massachusetts, Department of Anthropology is responsible for notifying the Narragansett Indian Tribe of Rhode Island that this notice has been published.

Dated: October 22, 2004
Sherry Hutt,
Manager, National NAGPRA Program.

[FR Doc. 04-25923 Filed 11-22-04; 8:45 am]

BILLING CODE 4312-50-S